DEPARTMENT OF TRANSPORTATION

Federal Aviation Administration

14 CFR Part 39

[Docket No. FAA-2010-0276; Directorate Identifier 2009-NM-144-AD; Amendment 39-16452; AD 2010-20-17]

RIN 2120-AA64

Airworthiness Directives; Bombardier, Inc. Model CL-600-2B19 (Regional Jet Series 100 & 440) Airplanes

AGENCY: Federal Aviation Administration (FAA), Department of Transportation (DOT).

ACTION: Final rule.

SUMMARY: We are superseding an existing airworthiness directive (AD) for the products listed above. This AD results from mandatory continuing airworthiness information (MCAI) originated by an aviation authority of another country to identify and correct an unsafe condition on an aviation product. The MCAI describes the unsafe condition as:

Three cases of in-flight loss of cabin pressurization have been reported, resulting from failure of a bulkhead check valve in combination with failure of an air supply duct.

In addition to mandating inspection, rework and/or replacement of the air supply ducts, Airworthiness Directive (AD) CF-2003-05 (subsequently revised to CF-2003-05R1) [which corresponds to FAA AD 2004-22-08] mandated the incorporation of a 4000 flight-hour repetitive inspection task for bulkhead check valves, Part Numbers (P/N) 92E20-3 and 92E20-4, into the approved maintenance schedule. However, this repetitive inspection task has since been superseded by a 3000 flight-hour periodic discard task for these bulkhead check valves.

This directive mandates revision of the approved maintenance schedule to incorporate the discard task for bulkhead check valves, P/N 92E20-3 and 92E20-4, and supersedes the instructions in Corrective Actions, Part A, of AD CF-2003-05R1, dated 7 February 2006.

We are issuing this AD to require actions to correct the unsafe condition on these products.

DATES: This AD becomes effective November 9, 2010.

The Director of the Federal Register approved the incorporation by reference of a certain publication listed in this AD as of November 9, 2010.

On December 2, 2004 (69 FR 62807, October 28, 2004), the Director of the Federal Register approved the incorporation by reference of certain other publications listed in this AD.

ADDRESSES: You may examine the AD docket on the Internet at http://www.regulations.gov or in person at the U.S. Department of Transportation, Docket Operations, M-30, West Building Ground Floor, Room W12-140, 1200 New Jersey Avenue, SE., Washington, DC.

FOR FURTHER INFORMATION CONTACT: Christopher Alfano, Airframe and Mechanical Systems Branch, ANE-171, FAA, New York Aircraft Certification Office (ACO), 1600 Stewart Avenue, Suite 410, Westbury, New York 11590; telephone (516) 228-7340; fax (516) 794-5531.

SUPPLEMENTARY INFORMATION:

Discussion

We issued a notice of proposed rulemaking (NPRM) to amend 14 CFR part 39 to include an AD that would apply to the specified products. That NPRM was published in the Federal Register on April 5, 2010 (75 FR 17086). That NPRM proposed to correct an unsafe condition for the specified products. The MCAI states:

Three cases of in-flight loss of cabin pressurization have been reported, resulting from failure of a bulkhead check valve in combination with failure of an air supply duct.

In addition to mandating inspection, rework and/or replacement of the air supply ducts, Airworthiness Directive (AD) CF-2003-05 (subsequently revised to CF-2003-05R1) [which corresponds to FAA AD 2004-22-08] mandated the incorporation of a 4000 flight-hour repetitive inspection task for bulkhead check valves, Part Numbers (P/N) 92E20-3 and 92E20-4, into the approved maintenance schedule. However, this repetitive inspection task has since been superseded by a 3000 flight-hour periodic discard task for these bulkhead check valves.

This directive mandates revision of the approved maintenance schedule to incorporate the discard task for bulkhead check valves, P/N 92E20-3 and 92E20-4, and supersedes the instructions in Corrective Actions, Part A, of AD CF-2003-05R1, dated 7 February 2006.

You may obtain further information by examining the MCAI in the AD docket.

Comments

We gave the public the opportunity to participate in developing this AD. We considered the comments received.

Request to Provide Credit for Actions Accomplished Per Previous Issue of Service Bulletin

Air Wisconsin requests that credit be provided for actions accomplished in accordance with a previous issue of a service bulletin. Air Wisconsin states that paragraph (g)(3) of the NPRM specifies that actions accomplished in accordance with Bombardier Alert Service Bulletin A601R-21-053, dated November 8, 2001, are considered acceptable for compliance; however, paragraph (i) of the NPRM states that Bombardier Alert Service Bulletin A601R-21-053, Revision `A,' dated January 28, 2003, needs to be accomplished. Air Wisconsin states that the NPRM should provide credit for actions accomplished in accordance with Bombardier Alert Service Bulletin A601R-21-053, dated November 8, 2001; and Revision `A,' dated January 28, 2003. Air Wisconsin states that Revision `A' did not affect airplanes on which actions were accomplished in accordance with the original issue of that service bulletin. Air Wisconsin states that its affected airplanes were modified in accordance with Bombardier Alert Service Bulletin A601R-21-053, dated November 8, 2001.

We agree that credit should be given for actions done in accordance with Bombardier Alert Service Bulletin A601R-21-053, dated November 8, 2001, and note that this AD does provide credit. In the “Restatement of Requirements of AD 2004-22-08, Amendment 39-13836” section of this AD, we refer to the latest revision of the service bulletin, Bombardier Alert Service Bulletin A601R-21-053, Revision `A,' dated January 28, 2003, for accomplishing the actions specified in paragraphs (h) and (i) of this AD. In paragraph (g)(3) of this AD, we provide credit for actions done before December 2, 2004 (the effective date of AD 2004-22-08) in accordance with Bombardier Alert Service Bulletin A601R-21-053, dated November 8, 2001, with the corresponding actions in paragraphs specified in paragraphs (h) and (i) of this AD. We have not changed the AD in regard to this issue.

Request To Clarify the Requirements of Paragraph (j) of the NPRM

Comair, Inc. (Comair) notes that paragraph (j) of the NPRM proposes to revise the Airworthiness Limitations section of the Instructions for Continued Airworthiness to include the information in Bombardier Temporary Revision (TR) 1-2-39, dated December 12, 2008, to Section 2—Systems and Powerplant Program, of Part 1 of the Bombardier CL-600-2B19 Maintenance Requirement Manual (MRM). Comair states that the MRM is not structured to incorporate Part 1 items into Part 2 of the MRM. Comair notes that Note 3 of the NPRM allows the TR to be removed once the information in TR 1-2-39 has been incorporated into a general revision. Comair notes that Revision 14, dated September 10, 2009, of the MRM has incorporated the information in TR 1-2-39.

We infer that Comair is requesting that we clarify the requirements of paragraph (j) of the NPRM. We agree that clarification is necessary. The intent of revising Part 2 of the Airworthiness Limitations section is to prohibit approval of any alternative replacement times or structural inspection intervals for this bulkhead check valve. But, we have clarified Note 3 of this AD to specify Part 2 of the Airworthiness Limitations section of the MRM. Note 3 of this AD states that the actions required by paragraph (j) of this AD may be done by inserting a copy of Bombardier TR 1-2-39, dated December 12, 2008, into the MRM, which introduces Bombardier Task 21-51-21-13. When Bombardier Task 21-51-21-13 has been included in general revisions of the MRM, the general revisions may be inserted into Part 2 of the Airworthiness Limitations section of the MRM, provided the relevant information in the general revision is identical to that in the TR.

Request To Clarify the Intent of Paragraph (j) of the NPRM

Comair states that if the intent of paragraph (j) of the NPRM is to introduce the task into its proper part of the MRM, that is, Part 1, then doing so would contradict the rationale the FAA previously provided in AD 2004-22-08, Amendment 39-13836, (69 FR 62807, October 28, 2004). In AD 2004-22-08, the FAA responded to two requests to consider the MRM Task Number 21-51-21-07 as an alternative to using Bombardier Alert Service Bulletin A601R-21-054, dated November 8, 2001. Comair points out that in AD 2004-22-08 the FAA stated, “Although Part 1 of the MRM is accepted by the FAA, it is not approved, as is Part 2 of the Airworthiness Limitations section. We cannot control revisions of the MRM; therefore, a task could be changed or deleted, and the AD requirements would be modified without our approval.” Comair points out that by mandating the TR, the FAA is now requiring the documentation that it previously rejected incorporating in AD 2004-22-08.

We infer that Comair is requesting clarification of the requirements of paragraph (j) of the NPRM. While the FAA reviews and acknowledges the contents of Part 1 of the MRM, Part 1 does not require FAA approval to be changed. Consequently, the FAA cannot control revisions to this section of the MRM. However, the FAA does approve the contents of Part 2 of the MRM, which becomes legally enforceable. A task may be altered or deleted and may nullify the intent of the AD. However, operators may request approval of an AMOC to allow the use of a particular task card, provided a specified revision and date are adhered to. Any subsequent revisions would require a new AMOC request to ensure that the AD requirements are still met. We have not changed the AD in regard to this issue.

Request To Allow Continuation of Previously Issued AMOCs

Comair requests that paragraph (l)(1) of the NPRM be revised to accept previously issued AMOCs. Comair states that it has received AMOCs from the New York Aircraft Certification Office that have allowed it to perform inspections using Comair task cards for complying with MRM Task 21-51-21-07 instead of Bombardier Alert Service Bulletin A601R-21-054, dated November 8, 2001.

We agree that the previously issued AMOCs to Comair continue to meet the requirements of this AD because they incorporated the bulkhead check valve discard task that is required by paragraph (j) of this AD. While we are not accepting all previously issued AMOCs that were granted for AD 2004-22-08, we have revised paragraph (l)(1) of this AD to accept those two specific AMOCs granted to Comair.

Conclusion

We reviewed the available data, including the comments received, and determined that air safety and the public interest require adopting the AD with the changes described previously. We determined that these changes will not increase the economic burden on any operator or increase the scope of the AD.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow our FAA policies. Any such differences are highlighted in a NOTE within the AD.

Costs of Compliance

Based on the service information, we estimate that this AD affects about 644 products of U.S. registry.

The actions that are required by AD 2004-22-08 and retained in this AD take about 15 work-hours per product, at an average labor rate of $85 per work hour. Required parts cost about $0 per product. Based on these figures, the estimated cost of the currently required actions is $1,869 per product.

We estimate that it takes about 1 work-hour per product to comply with the new requirement to revise the ALI. The average labor rate is $85 per work-hour. Based on these figures, we estimate the cost of this requirement of the AD on U.S. operators to be $54,740, or $85 per product.

We estimate that it takes about 5 work-hours per product to comply with the new inspection requirement. The average labor rate is $85 per work-hour. Required parts would cost about $594 per product, per replacement cycle. Where the service information lists required parts costs that are covered under warranty, we have assumed that there will be no charge for these costs. As we do not control warranty coverage for affected parties, some parties may incur costs higher than estimated here. Based on these figures, we estimate the cost of the inspection requirements of the AD on U.S. operators to be $656,236, or $1,019 per product, per replacement cycle.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM, the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-13836 (69 FR 62807, October 28, 2004) and adding the following new AD:

2010-20-17 Bombardier, Inc.: Amendment 39-16452. Docket No. FAA-2010-0276; Directorate Identifier 2009-NM-144-AD.

Effective Date

(a) This airworthiness directive (AD) becomes effective November 9, 2010.

Affected ADs

(b) This AD supersedes AD 2004-22-08, Amendment 39-13836.

Applicability

(c) This AD applies to all Bombardier, Inc. Model CL-600-2B19 (Regional Jet Series 100 & 440) airplanes, serial numbers 7003 and subsequent, certificated in any category.

Note 1: This AD requires revisions to certain operator maintenance documents to include new inspections. Compliance with these inspections is required by 14 CFR 91.403(c). For airplanes that have been previously modified, altered, or repaired in the areas addressed by these inspections, the operator may not be able to accomplish the inspections described in the revisions. In this situation, to comply with 14 CFR 91.403(c), the operator must request approval for an alternative method of compliance according to paragraph (l) of this AD. The request should include a description of changes to the required inspections that will ensure the continued operational safety of the airplane.

Subject

(d) Air Transport Association (ATA) of America Code 21: Air conditioning.

Reason

(e) The mandatory continuing airworthiness information (MCAI) states:

Three cases of in-flight loss of cabin pressurization have been reported, resulting from failure of a bulkhead check valve in combination with failure of an air supply duct.

In addition to mandating inspection, rework and/or replacement of the air supply ducts, Airworthiness Directive (AD) CF-2003-05 (subsequently revised to CF-2003-05R1) [which corresponds to FAA AD 2004-22-08] mandated the incorporation of a 4 000 flight-hour repetitive inspection task for bulkhead check valves, Part Numbers (P/N) 92E20-3 and 92E20-4, into the approved maintenance schedule. However, this repetitive inspection task has since been superseded by a 3000 flight-hour periodic discard task for these bulkhead check valves.

This directive mandates revision of the approved maintenance schedule to incorporate the discard task for bulkhead check valves, P/N 92E20-3 and 92E20-4, and supersedes the instructions in Corrective Actions, Part A, of AD CF-2003-05R1, dated 7 February 2006.

Compliance

(f) You are responsible for having the actions required by this AD performed within the compliance times specified, unless the actions have already been done.

Restatement of Requirements of AD 2004-22-08, Amendment 39-13836:

Service Information Clarifications

(g) Paragraphs (g)(1), (g)(2), and (g)(3) of this AD pertain to the service information referenced in this AD.

(1) Although Bombardier Alert Service Bulletin A601R-21-053, Revision `A,' dated January 28, 2003; and Bombardier Alert Service Bulletin A601R-21-054, dated November 8, 2001; specify to submit certain information to the manufacturer, this AD does not include such a requirement.

(2) Bombardier Alert Service Bulletin A601R-21-054, dated November 8, 2001, recommends sending all damaged check valves to the manufacturer for analysis; however, this AD does not include that requirement.

(3) Accomplishment of the actions specified in Bombardier Alert Service Bulletin A601R-21-053, dated November 8, 2001, before December 2, 2004 (the effective date of AD 2004-22-08), is considered acceptable for compliance with the applicable actions specified in this AD.

Repetitive Inspections/Related Corrective Actions

(h) Within 500 flight hours after December 2, 2004: Do the detailed inspections and related corrective actions required by paragraphs (h)(1) and (h)(2) of this AD, per the Accomplishment Instructions of Bombardier Alert Service Bulletin A601R-21-053, Revision `A,' dated January 28, 2003; and Bombardier Alert Service Bulletin A601R-21-054, dated November 8, 2001; as applicable.

(1) For airplanes having bulkhead check valves with part number (P/N) 92E20-3/-4, as identified in Bombardier Alert Service Bulletin A601R-21-054, dated November 8, 2001: Inspect the left- and right-hand bulkhead check valves for damage (cracking, breakage). If any damage is found, before further flight, replace the damaged valve. Repeat the inspection at intervals not to exceed 4,000 flight hours until the replacement required by paragraph (j) of this AD is done.

(2) For airplanes having serial numbers 7003 through 7067 inclusive, and 7069 through 7477 inclusive: Inspect the left- and right-hand air supply ducts of the rear bulkhead for damage (tearing, delamination, or cracking). If any damage is found, before further flight, either rework or replace the damaged air supply duct, which ends the inspections for that air supply duct only. If no damage is found, repeat the inspection thereafter at intervals not to exceed 500 flight hours until accomplishment of paragraph (i) of this AD.

Note 2: For the purposes of this AD, a detailed inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

Terminating Action for Repetitive Inspections of Air Supply Ducts

(i) Except as required by paragraph (h)(2) of this AD, for airplanes having serial numbers 7003 through 7067 inclusive, and 7069 through 7477 inclusive: Within 5,000 flight hours after December 2, 2004, either rework or replace the left- and right-hand air ducts, as applicable, per the Accomplishment Instructions of Bombardier Alert Service Bulletin A601R-21-053, Revision `A,' dated January 28, 2003; and Bombardier Alert Service Bulletin A601R-21-054, dated November 8, 2001; as applicable. Accomplishment of this paragraph ends the repetitive inspections required by paragraph (h)(2) of this AD.

New Requirements of This AD:

Actions and Compliance

(j) For airplanes having serial numbers 7003 and subsequent: Within 60 days after the effective date of this AD, revise the Airworthiness Limitations section of the Instructions for Continued Airworthiness to include the information in Bombardier Temporary Revision (TR) 1-2-39, dated December 12, 2008, to Section 2—Systems and Powerplant Program, of Part 1 of the Bombardier CL-600-2B19 Maintenance Requirement Manual (MRM). This task requires replacement of the bulkhead check valves having P/N 92E20-3 or 92E20-4 at intervals not to exceed 3,000 flight hours. Operate the airplane thereafter according to the limitations and procedures in the TR.

(k) Thereafter, except as provided in paragraph (j) of this AD, no alternative replacement times or structural inspection intervals may be approved for this bulkhead check valve.

Note 3: The actions required by paragraph (j) of this AD may be done by inserting a copy of Bombardier TR 1-2-39, dated December 12, 2008, into the MRM, which introduces Task 21-51-21-13. When Bombardier Task 21-51-21-13 has been included in general revisions of the MRM, the general revisions may be inserted into Part 2 of the Airworthiness Limitations section of the MRM, provided the relevant information in the general revision is identical to that in the TR.

FAA AD Differences

Note 4: This AD differs from the MCAI and/or service information as follows: No differences.

Other FAA AD Provisions

(l) The following provisions also apply to this AD:

(1) Alternative Methods of Compliance (AMOCs): The Manager, New York Aircraft Certification Office (ACO), ANE-170, FAA, has the authority to approve AMOCs for this AD, if requested using the procedures found in 14 CFR 39.19. Send information to ATTN: Program Manager, Continuing Operational Safety, FAA, New York ACO, 1600 Stewart Avenue, Suite 410, Westbury New York 11590; telephone 516-228-7300; fax 516-794-5531. Before using any approved AMOC on any airplane to which the AMOC applies, notify your principal maintenance inspector (PMI) or principal avionics inspector (PAI), as appropriate, or lacking a principal inspector, your local Flight Standards District Office. The AMOC approval letter must specifically reference this AD. Two AMOCs approved previously in accordance with AD 2004-22-08, Amendment 39-13836, are approved as AMOCs for the corresponding provisions of this AD. These two approved AMOCs are identified in paragraphs (l)(1)(i) and (l)(1)(ii) of this AD. All other AMOCs approved previously in accordance with AD 2004-22-08, Amendment 39-13836, are not approved as AMOCs with this AD.

(i) An AMOC approved by the New York ACO on November 17, 2004, in response to Comair AMOC request memo, dated November 10, 2004.

(ii) An AMOC approved by the New York ACO on October 13, 2006, in response to Comair AMOC request memo, dated September 19, 2006.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act (44 U.S.C. 3501 et seq.), the Office of Management and Budget (OMB) has approved the information collection requirements and has assigned OMB Control Number 2120-0056.

Related Information

(m) Refer to MCAI Canadian Airworthiness Directive CF-2009-31, dated July 8, 2009; and the service information specified in Table 1 of this AD for related information.

Table 1—Related Information
Document | Revision | Date
Bombardier TR 1-2-39 to Section 2—Systems and Powerplant Program, of Part 1 of the Bombardier CL-600-2B19 MRM | Original | December 12, 2008.
Bombardier Alert Service Bulletin A601R-21-053 | `A' | January 28, 2003.
Bombardier Alert Service Bulletin A601R-21-054 | Original | November 8, 2001.

Material Incorporated by Reference

(n) You must use the service information specified in Table 2 of this AD, as applicable, to do the actions required by this AD, unless the AD specifies otherwise.

Table 2—Material Incorporated by Reference
Document | Revision | Date
Bombardier Temporary Revision (TR) 1-2-39 to Section 2—Systems and Powerplant Program, of Part 1 of the Bombardier CL-600-2B19 Maintenance Requirement Manual (MRM) | Original | December 12, 2008.
Bombardier Alert Service Bulletin A601R-21-053 | `A' | January 28, 2003.
Bombardier Alert Service Bulletin A601R-21-054 | Original | November 8, 2001.

(1) The Director of the Federal Register approved the incorporation by reference of Bombardier TR 1-2-39, dated December 12, 2008, to Section 2—Systems and Powerplant Program, of Part 1 of the Bombardier CL-600-2B19 MRM, under 5 U.S.C. 552(a) and 1 CFR part 51.

(2) The Director of the Federal Register previously approved the incorporation by reference of Bombardier Alert Service Bulletin A601R-21-053, Revision `A,' dated January 28, 2003; and Bombardier Alert Service Bulletin A601R-21-054, dated November 8, 2001; on December 2, 2004 (69 FR 62807, October 28, 2004).

(3) For service information identified in this AD, contact Bombardier, Inc., 400 Côte-Vertu Road West, Dorval, Québec H4S 1Y9, Canada; telephone 514-855-5000; fax 514-855-7401; e-mail thd.crj@aero.bombardier.com; Internet http://www.bombardier.com.

(4) You may review copies of the service information at the FAA, Transport Airplane Directorate, 1601 Lind Avenue, SW., Renton, Washington. For information on the availability of this material at the FAA, call 425-227-1221.

(5) You may also review copies of the service information that is incorporated by reference at the National Archives and Records Administration (NARA). For information on the availability of this material at NARA, call 202-741-6030, or go to: http://www.archives.gov/federal_register/code_of_federal_regulations/ibr_locations.html.

Issued in Renton, Washington, on September 16, 2010.
Robert D. Breneman,
Acting Manager, Transport Airplane Directorate, Aircraft Certification Service.

[FR Doc. 2010-24256 Filed 10-4-10; 8:45 am]

BILLING CODE 4910-13-P